DEPARTMENT OF TRANSPORTATION

Research and Special Programs Administration

[Docket RSPA-98-4957]

Request for Public Comments and Office of Management and Budget (OMB) Approval of an Existing Information Collection

AGENCY: Research and Special Programs Administration, Department of Transportation.

ACTION: Notice.

SUMMARY: This notice seeks comments from the public regarding the need for RSPA to collect paperwork from gas service line operators to ensure that customers receiving gas pipeline service are aware of the availability of excess flow valves (EFV's). This notice is published (pursuant to the Paperwork Reduction Act of 1995) to measure the need for the paperwork collection on EFV's, ways to minimize the burden on operators who must respond, ways to enhance the quality of the information collected, and to verify the accuracy of the agency's estimate of the burden (measured in work hours) on pipeline operators. By advising customers of the availability of excess flow valves, the notices give customers information to help them decide if they would like to purchase excess flow valves for their line.

DATES: Comments on this notice must be received by May 6, 2002 to ensure consideration.

ADDRESSES: Please address your comments to the Docket Management System, U.S. Department of Transportation, Room Plaza 401, 400 Seventh Street, SW., Washington, DC 20590. You must identify the docket number RSPA-98-4957 at the beginning of you comments, and you should submit two copies of your comments. If you wish to receive confirmation that RSPA received your comments, include a self-addressed, stamped postcard. You may also submit comments by the Internet to http://dms.dot.gov Once on the DMS Web site scroll down the page and click on “Electronic Submission” and follow the instructions.

You may review the public docket containing comments in person in the Dockets Office between 9 a.m. and 5 p.m., Monday through Friday except Federal Holidays. The Dockets Office is on the plaza level of the NASSIF Building at the Department of Transportation at the above address. Also, you may review public dockets on the Internet at http.//dms.dot.gov/search. Once on the search page, type in the last four digits of the docket number shown at the beginning of this notice (in this case 4957) and click on “search.”

Comments are invited on: (a) The need for the proposed collection of information for the proper performance of the functions of the agency, including whether the information will have practical utility; (b) the accuracy of the agency's estimate of the burden of the proposed collection of information including the validity of the methodology and assumptions used; (c) ways to enhance the quality, utility and clarity of the information to be collected; and (d) ways to minimize the burden of the collection of information on those who are to respond, including the use of appropriate automated, electronic, mechanical, or other technological collection techniques.

FOR FURTHER INFORMATION CONTACT: Marvin Fell, OPS, RSPA, U.S. Department of Transportation (DOT), 400 Seventh Street, SW., Washington, DC 20950, telephone (202) 366-6205 or e-mail marvin.fell@rspa.dot.gov.

SUPPLEMENTARY INFORMATION: Title of Information Collection: Excess Flow Valves, Customer Notification.

OMB Number: 2137-0593.

Abstract: 49 U.S.C. 60110 directed DOT to prescribe regulations requiring operators to notify customers in writing about EFV availability, the safety benefits derived from installation, and the costs associated with installation. The regulations provide that, except where installation is already required, the operator will install an EFV that meets prescribed performance criteria at the customer's request, if the customer pays for the installation.

Respondents: Gas Distribution Pipeline Operators.

Estimated Number of Respondents: 1590.

Estimated Total Annual Burden on Respondents: 20,000 hours.

As used in this notice, the terms ‘paperwork information’ and ‘paperwork collection’ are synonymous, and include all work related to preparing and disseminating information related to this customer notification requirement including completing paperwork, gathering information and conducting telephone calls.

Issued in Washington, DC, on February 20, 2002.
Stacey L. Gerard,
Associate Administrator for Pipeline Safety.

[FR Doc. 02-4479 Filed 3-4-02; 8:45 am]

BILLING CODE 4910-60-P